DEPARTMENT OF ENERGY

Federal Energy Regulatory Commission

[Docket No. EL15-56-000]

City of Burbank, California; City of Glendale, California v. Los Angeles Department of Water and Power; Notice of Complaint

Take notice that on April 3, 2015, pursuant to sections 211A, 212, 307, 308, and 309 of the Federal Power Act (FPA), 16 U.S.C. 824i, 824j-k, 825f, 825g, and 825h and Rule 206 of the Federal Energy Regulatory Commission's (Commission) Rules of Practice and Procedure, 18 CFR 385.206, the City of Burbank California and the City of Glendale, California (Complainants) filed a formal complaint against the City of Los Angeles, California's Department of Water and Power (Respondent), alleging, that the Respondent's modified transmission tariff fails to meet the comparability and non-discrimination requirements of the FPA section 211A, as more fully explained in the complaint.

The Complainants certifies that a copy of the complaint was served on the Respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on April 23, 2015.

Dated: April 6, 2015.
Kimberly D. Bose,
Secretary.

[FR Doc. 2015-08689 Filed 4-15-15; 8:45 am]

BILLING CODE 6717-01-P